INTERNATIONAL TRADE COMMISSION

Sunshine Act Meeting

AGENCY HOLDING THE MEETING: United States International Trade Commission.

TIME AND DATE: May 7, 2004, at 11 a.m.

PLACE: Room 101, 500 E Street, SW., Washington, DC 20436, telephone: (202) 205-2000.

STATUS: Open to the public.

MATTERS TO BE CONSIDERED: 1. Agenda for future meetings: none.

2. Minutes.

3. Ratification List.

4. Inv. Nos. 701-TA-438 and 731-TA-1076 (Preliminary) (Live Swine from Canada)—briefing and vote. (The Commission is currently scheduled to transmit its determination to the Secretary of Commerce on or before May 10, 2004; Commissioners' opinions are currently scheduled to be transmitted to the Secretary of Commerce on or before May 17, 2004.)

5. Inv. Nos. 701-TA-439-440 and 731-TA-1077-1080 (Preliminary) (Polyethylene Terephthalate Resin from India, Indonesia, Taiwan, and Thailand)—briefing and vote. (The Commission is currently scheduled to transmit its determination to the Secretary of Commerce on or before May 10, 2004; Commissioners' opinions are currently scheduled to be transmitted to the Secretary of Commerce on or before May 17, 2004.)

In accordance with Commission policy, subject matter listed above, not disposed of at the scheduled meeting, may be carried over to the agenda of the following meeting.

By order of the Commission.
Issued: April 26, 2004.
Marilyn R. Abbott,
Secretary to the Commission.

[FR Doc. 04-9689 Filed 4-26-04; 9:28 am]

BILLING CODE 7020-02-P